DEPARTMENT OF HEALTH AND HUMAN SERVICES

Food and Drug Administration

[Docket No. FDA-2011-N-0345]

Agency Information Collection Activities; Submission for Office of Management and Budget Review; Comment Request; Experimental Study on Consumer Responses to Nutrition Facts Labels With Various Footnote Formats and Declaration of Amount of Added Sugars; Withdrawal

AGENCY: Food and Drug Administration, HHS.

ACTION: Withdrawal of notice.

SUMMARY: This document withdraws a Food and Drug Administration (FDA) notice that published in the Federal Register of December 29, 2011 (76 FR 81948).

DATES: This notice is withdrawn on May 31, 2012.

FOR FURTHER INFORMATION CONTACT: Domini Bean, Office of Information Management, Food and Drug Administration, 1350 Piccard Dr., PI50-400T, Rockville, MD 20850, domini.bean@fda.hhs.gov.

SUPPLEMENTARY INFORMATION: FDA published a notice in the Federal Register of December 29, 2011, informing interested parties that the proposed collection of information entitled “Experimental Study on Consumer Responses to Nutrition Facts Labels With Various Footnote Formats and Declaration of Amount of Added Sugars” had been submitted to the Office of Management and Budget (OMB) for review and clearance under the Paperwork Reduction Act of 1995 and inviting the public to submit comments on the proposed study to OMB. The notice also announced FDA's plans to change the study by examining consumer reactions to the declaration of added sugars instead of the declaration of vitamins and minerals by weight. OMB received requests for an extension of time to comment on this change to the study. In response to these requests, FDA is providing an opportunity for comment on the current design of the study, including the added sugars component, by publishing a new 60-day notice, elsewhere in this issue of the Federal Register, describing the study as currently envisioned and inviting the public to submit comments to the Agency's docket. After considering any comments received, the Agency will resubmit the proposed collection of information to OMB. Thus, FDA is withdrawing the proposed collection of information published on December 29, 2011, at this time.

Dated: May 22, 2012.
Leslie Kux,
Assistant Commissioner for Policy.

[FR Doc. 2012-13142 Filed 5-30-12; 8:45 am]

BILLING CODE 4160-01-P